STATE JUSTICE INSTITUTE

SJI Board of Directors Meeting; Notice

AGENCY: State Justice Institute.

ACTION: Notice of meeting.

SUMMARY: The SJI Board of Directors will be meeting on Monday, December 10, 2012 at 9:30 a.m. The meeting will be held at the New Mexico Supreme Court, in Santa Fe, New Mexico. The purpose of this meeting is to consider grant applications for the 1st quarter of FY 2013, and other business. All portions of this meeting are open to the public.

ADDRESSES: New Mexico Supreme Court, 237 Don Gaspar Ave., Santa Fe, NM 87501, 505-827-4860.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2012-28294 Filed 11-20-12; 8:45 am]

BILLING CODE P